DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census—American Samoa, the Commonwealth of the Northern Mariana Islands, Guam, and the U.S. Virgin Islands.

OMB Control Number: 0607-0860.

Form Number(s): Various.

Type of Request: Reinstatement, with change, of an expired collection.

Burden Hours: 111,675.

Number of Respondents: 158,700.

Average Hours per Response: 42 minutes.

Needs and Uses: The U.S. Census Bureau (Census Bureau) requests authorization from the OMB to collect data from the public in American Samoa, the Commonwealth of the Northern Mariana Islands, Guam, and the U.S. Virgin Islands (collectively referred to as the Island Areas) as part of the 2010 Census. The United States Constitution mandates that a census of the Nation's population be taken every ten years. In Title 13, U.S. Code, the Congress gave the Secretary of Commerce (delegated to the Director of the Census Bureau) authority to undertake the decennial census. The geographic scope of the decennial census is specified in Title 13 U.S.C., Section 191 as covering the 50 states, the District of Columbia, Puerto Rico, the U.S. Virgin Islands of the United States, the Commonwealth of the Northern Mariana Islands, Guam, and any other areas as may be determined by the Department of State. In the 2010 Census, the Census Bureau also will enumerate the Pacific Island Area of American Samoa. Census data are used to determine funding allocations for the distribution of federal and state funds each year.

From the 2010 Census of the Island Areas, the Census Bureau will collect demographic, social, economic, and housing characteristics specifically elaborated in Title 13 U.S. Code. The code also provides for the confidentiality of responses to various surveys and censuses.

Affected Public: Individuals or households.

Frequency: One-time.

Respondent's Obligation: Mandatory.

Legal Authority: Title 13 U.S.C. Sections 141 and 191.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: February 26, 2009.
Gwellnar Banks,
Management Analyst, Office of the Chief Information Officer.

[FR Doc. E9-4430 Filed 3-2-09; 8:45 am]

BILLING CODE 3510-07-P